ENVIRONMENTAL PROTECTION AGENCY

[EPA-HQ-OAR-2011-0742; FRL-9466-8]

Agency Information Collection Activities; Proposed Collection; Comment Request; Outer Continental Shelf Air Regulations

AGENCY: Environmental Protection Agency (EPA).

ACTION: Notice.

SUMMARY: In compliance with the Paperwork Reduction Act (PRA) (44 U.S.C. 3501 et seq.), this document announces that the EPA is planning to submit a request to renew an existing approved Information Collection Request (ICR) to the Office of Management and Budget (OMB). This ICR is scheduled to expire on January 31, 2012. Before submitting the ICR to OMB for review and approval, the EPA is soliciting comments on specific aspects of the proposed information collection as described below.

DATES: Comments must be submitted on or before November 21, 2011.

ADDRESSES: Submit your comments, identified by Docket ID No. EPA-HQ-OAR-2011-0742, by one of the following methods:

• http://www.regulations.gov: Follow the on-line instructions for submitting comments.

• E-mail: a-and-r-docket@epa.gov.

• Fax: (202) 566-9744.

• Mail: Agency Information Collection Activities; Proposed Collection; Comment Request; Outer Continental Shelf Air Regulations; EPA ICR No. 1601.08; OMB Control No. 2060-0249 Docket, Environmental Protection Agency, Air and Radiation Docket and Information Center, Mailcode: 2822T, 1200 Pennsylvania Ave., NW., Washington, DC 20460. Please include a total of two copies.

• Hand Delivery: EPA Docket Center, Public Reading Room, EPA West, Room 3334, 1301 Constitution Ave., NW., Washington, DC 20460. Such deliveries are only accepted during the Docket's normal hours of operation, and special arrangements should be made for deliveries of boxed information.

Instructions: Direct your comments to Docket ID No. EPA-HQ-OAR-2011-0742. The EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means the EPA will not know your identity or contact information unless you provide it in the body of your comment. If you send an email comment directly to the EPA without going through http://www.regulations.gov, your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. For additional information about the EPA's public docket, visit the EPA Docket Center homepage at http://www.epa.gov/epahome/dockets.htm.

FOR FURTHER INFORMATION CONTACT: Mr. David Painter, Air Quality Policy Division, Office of Air Quality Planning and Standards, (C504-03), Environmental Protection Agency, Research Triangle Park, North Carolina 27711; telephone number: (919) 541-5515; fax number: (919) 541-5509; e-mail address: painter.david@epa.gov.

SUPPLEMENTARY INFORMATION:

How can I access the docket and/or submit comments?

The EPA has established a public docket for this ICR under Docket ID No. EPA-HQ-OAR-2011-00742,which is available for online viewing at http://www.regulations.gov, or in-person viewing at the Air and Radiation Docket in the EPA Docket Center (EPA/DC), EPA West, Room 3334, 1301 Constitution Ave., NW., Washington, DC. The EPA/DC Public Reading Room is open from 8:30 a.m. to 4:30 p.m., Monday through Friday, excluding legal holidays. The telephone number for the Public Reading Room is (202) 566-1744.

Use http://www.regulations.gov to obtain a copy of the draft collection of information, submit or view public comments, access the index listing of the contents of the docket, and to access those documents in the public docket that are available electronically. Once in the system, select “search,” then key in the docket ID number identified in this document.

What information is EPA particularly interested in?

Pursuant to section 3506(c)(2)(A) of the PRA, the EPA specifically solicits comments and information to enable it to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, the EPA is requesting comments from very small businesses (those that employ less than 25) on examples of specific additional efforts that the EPA could make to reduce the paperwork burden for very small businesses affected by this collection.

What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by the EPA, be sure to identify the docket ID number assigned to this action in the subject line on the first page of your response. You may also provide the name, date, and Federal Register citation.

What information collection activity does this apply to?

Affected entities: Entities potentially affected by this action are all outer continental shelf (OCS) sources except those located in the Gulf of Mexico west of 87.5 degrees longitude (near the border of Florida and Alabama). For sources located within 25 miles of states' seaward boundaries, the requirements are the same as those that would be applicable if the source were located in the corresponding onshore area (COA). In states affected by this rule, state boundaries extend three miles from the coastline, except off the coast of the Florida Panhandle, where the state's boundary extends three leagues (about nine miles) from the coastline.

Title: Outer Continental Shelf Air Regulations.

ICR numbers: EPA ICR Number 1601.08 and OMB Control Number 2060-0249.

ICR status: This ICR is currently scheduled to expire on January 31, 2012.

Abstract: Sources located beyond 25 miles of states' boundaries are subject to federal requirements (implemented and enforced solely by the EPA) for Prevention of Significant Deterioration (PSD), New Source Performance Standards (NSPS), National Emissions Standards for Hazardous Air Pollutants Standards (NESHAP), the federal title V operating permit program, and the enhanced compliance and monitoring regulations. An agency may not conduct or sponsor, and a person is not required to respond to, a collection of information request unless it displays a currently valid OMB control number. The OMB control numbers for the EPA's regulations in 40 CFR are listed in 40 CFR part 9 and 48 CFR chapter 15. Section 176(c) of the Clean Air Act (42 U.S.C. 7401 et seq.) requires that all federal actions conform with the State Implementation Plans (SIPs) to attain and maintain the NAAQS. Depending on the type of action, the federal entities must collect information themselves, hire consultants to collect the information or require applicants/sponsors of the federal action to provide the information.

The type and quantity of information required will depend on the circumstances surrounding the action. First, the entity must make an applicability determination. If the source is located within 25 miles of the state's seaward boundaries as established in the regulations, the requirements are the same as those that would be applicable if the source were located in the COA. State and local air pollution control agencies are usually requested to provide information concerning regulation of offshore sources and are provided opportunities to comment on the proposed determinations. The public is also provided an opportunity to comment on the proposed determinations.

Burden Statement: Burden means the total time, effort, or financial resources expended by persons to generate, maintain, retain, or disclose or provide information to or for a federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

On April, 29, 2008, the EPA last announced a renewal of the ICR for OCS air regulations. At that time we provided our estimate that the reporting and recordkeeping burden for this collection of information would average 549 hours per response. We then summarized the burden as follows:

Estimated Total Number of Potential Respondents: 49.

Estimated Number of Responses: 62.

Frequency of Response: Annual.

Estimated Total Annual Burden Hours: 34,024.

Estimated Total Annual Costs: $1,857,950, which includes $0 annualized capital startup costs, $17,886 O&M costs, and $1,840,064 in annual labor costs.

Included in the docket for this proposed ICR renewal is a copy of the supporting statement provided to OMB in 2008 which summarized the final results of the analyses that followed our prior request for public comment. The approach to the prior supporting statement will be applied to summarize any provided information for the purpose of updating the estimate of burden for the next three years.

Are there changes in the estimates from the last approval?

At this time we are obtaining updated data from which to re-calculate burden estimates for the ICR renewal. The preliminary data is sufficiently incomplete to preclude the EPA from projecting the change in burden. There is an indication of an increase of activity for the Atlantic region and the coast of Alaska.

What is the next step in the process for this ICR?

The EPA will consider the comments received and amend the ICR as appropriate. Additionally, the EPA is consulting with the Department of Interior's Bureau of Ocean Energy Management, Regulation and Enforcement to obtain detailed estimates of offshore activity that would fall under air regulations and incur burden. The incoming information will be incorporated into an updated supporting statement for inclusion in an OMB ICR package. The final ICR package will then be submitted to OMB for review and approval pursuant to 5 CFR 1320.12. At that time, the EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: September 14, 2011.
Mary Henigin,
Acting Director, Office of Air Quality Planning and Standards.

[FR Doc. 2011-24093 Filed 9-19-11; 8:45 am]

BILLING CODE 6560-50-P